DEPARTMENT OF THE INTERIOR

National Park Service

National Register of Historic Places; Notification of Pending Nominations

Nominations for the following properties being considered for listing in the National Register were received by the National Park Service before February 19, 2000.

Pursuant to § 60.13 of 36 CFR part 60 written comments concerning the significance of these properties under the National Register criteria for evaluation may be forwarded to the National Register, National Park Service, 1849 C St. NW, NC400, Washington, DC 20240. Written comments should be submitted by March 20, 2000.

Carol D. Shull,
Keeper of the National Register.

ARKANSAS

Miller County

Texarkana US Post Office and Courthouse, Fifth St. and State Line Ave., Texarkana, 00000245

COLORADO

Saguache County

Indian Grove, Address Restricted, Mosca, 00000237

FLORIDA

Palm Beach County

Comeau, Alfred J., House, 701 Flamingo Dr., West Palm Beach, 00000238

MICHIGAN

Washtenaw County

Tuomy Hills Service Station, 2460 Washtenaw Ave., Ann Arbor, 00000240

NEW YORK

Westchester County

Church of St. Barnabas, 15 N Broadway, Irvington, 00000241

OKLAHOMA

Comanche County

Federal Building and US Courthouse, Jct. of SW 5th St. and SW “E” Ave., Lawton, 00000243

Muskogee County

United States Post Office and Courthouse, 111 N. Fifth, Muskogee, 00000246

Pittsburg County

Federal Building and US Courthouse, Jct. of 3rd and Carl Albert Parkway, McAlester, 00000242

Tulsa County

United States Post Office and Courthouse, 224 S. Boulder Ave., Tulsa, 00000244

TEXAS

Tarrant County

Old Town Historic District, (Arlington MRA) Roughly bounded by Sanford, Elm, North, Prairie and Oak Sts., Arlington, 00000247

WEST VIRGINIA

Cabell County

Huntington High School, 900 Eighth St., Huntington, 00000248

Jefferson County

Woodlawn, Address Restricted, Kearneysville, 00000254

Kanawha County

Charleston Baptist Temple, 209 Morris St., Charleston, 00000252

Mason County

Maplewood, 1951 US 35, Pliny, 00000251

Pendleton County

Priest Mill, Off US 220, near Low-Water Bridge, Franklin, 00000250

Pocahontas County

IOOF Lodge Building, Jct. of 8th St. and Second Ave., Marlinton, 00000249

Marlinton Opera House, Third Ave., Marlinton, 00000253

WISCONSIN

Brown County

Fox Theatre, 117 S. Washington St., Green Bay, 00000256

Milwaukee County

North Point North Historic District, Roughly bounded by N. Downer Ave., E. Park Pl., and N. Wahl Ave., Milwaukee, 00000255

Sauk County

Lachmund Family House, 717 Water St., Sauk City, 00000257

A request for REMOVAL has been made for the following resources:

ARKANSAS

Benton County

Siloam Springs Train Station (Benton County MRA), E. Jefferson Siloam Springs, 87002413

Spavinaw Creek Bridge (Benton County MRA), 4 mi. N of Decatur on CR 29 Decatur Cicinity, 87002414

Sunset Hotel (Benton County MRA), W of US 71, Bella Vista, 92000986

Columbia County

Louisiana and Northwest Railroad Depot—Magnolia (Historic Railroad Depots in Arkansas MPS) N side of Main St., bet. Clay and Walnut Sts. Magnolia, 92000614

Conway County

Sims Hotel, Center of Plummerville, Plummerville, 75000379

Howard County

DeQueen and Eastern Railroad Depot—Dierks (Historic Railroad Depots in Arkansas MPS), E of Herman Ave., Diers, 92000607

Izard County

Melbourne Home Economics Building (public Schools in Ozark MPS), School Dr. Melborne 92001201

Pope County

Galla Creek Bridge (Historic Bridges of Arkansas MPS), Old AR 64 over Galla Cr. Pottsvillle, 93000090

Pulaski County

Back House (Thompson, Charles L., Design Collection TR), 1523 Cumberland St. Little Rock, 82000875

Van Buren County

Stobaugh House, AR 9, 0.5 mi. SW of Choctaw, Choctaw, 76000471

White County

Herring Building (White County MPS), Jct of E. First and Smith Sts. McRae, 91001348

Pemberton House (White County MPS), 601 N. Cypress St., Beebe, 91001255

Westbrooke, Lipsy, House (White County MPS), 809 W. Center St., Beebe, 91001260

[FR Doc. 00-4823 Filed 3-2-00; 8:45 am]

BILLING CODE 4310-70-P